DEPARTMENT OF COMMERCE

International Trade Administration

Announcement of November 2019 Through April 2020 International Trade Administration Trade Missions

AGENCY: International Trade Administration, Department of Commerce.

SUMMARY: The United States Department of Commerce, International Trade Administration (ITA) is announcing five upcoming trade missions that will be recruited, organized, and implemented by ITA. These missions are:

• Additive Manufacturing Trade Mission to Europe—November 17-22, 2019.

• Envirotech Executive Service Mission to India—February 9-15, 2020.

• Asia EDGE Trade Mission to Southeast Asia—March 16-20, 2020.

• Trade Winds Indo Pacific Hong Kong & Indo Pacific Region—April 20-28, 2020.

A summary of each mission is found below. Application information and more detailed mission information, including the commercial setting and sector information, can be found at the trade mission website: http://export.gov/trademissions.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington DC 20230, telephone (202) 482-3773.

SUPPLEMENTARY INFORMATION:

The following conditions for participation will be used for each mission:

Applicants must submit a completed and signed mission application and supplemental application materials, including adequate information on their products and/or services, primary market objectives, and goals for participation. If the Department of Commerce receives an incomplete application, the Department may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The following selection criteria will be used for each mission:

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Trade Mission Participation Fees:

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, an applicant is a small or medium-sized enterprise (SME) if it qualifies under the Small Business Administration's (SBA) size standards (https://www.sba.gov/document/support-table-size-standards), which vary by North American Industry Classification System (NAICS) Code. The SBA Size Standards Tool [https://www.sba.gov/size-standards/] can help you determine the qualifications that apply to your company.

Mission List: (additional information about each mission can be found at http://export.gov/trademissions).

U.S. Additive Manufacturing Trade Mission to France, Germany, and Poland

Dates: November 18-22, 2019

Summary

The United States (U.S.) Department of Commerce, International Trade Administration's Foreign Commercial Service (USFCS), along with assistance from ITA's Industry & Analysis unit, are organizing an Additive Manufacturing (AM) Trade Mission to France, Germany, and Poland, November 18-22. This mission is designed to help export-ready U.S. companies launch or increase their export business in the rapidly advancing AM and 3D printing industries of France, Germany, and Poland.

Mission participants will benefit from expert briefings, provided by public and private sector specialists, on each country's commercial framework and the local AM market. Strategic focus on AM development, Research & Development (R&D), and commercial integration will be included in the briefings to emphasize American standards and increase competitiveness. The agenda in France and Poland includes meetings with local AM stakeholders, professional associations, one-on-one meetings with potential business partners, and onsite visits with industry leaders. In Germany, delegates will attend the Formnext trade show where they will have the opportunity to participate in discussions on AM standardization, promote their products via a “Pitch Fest”, and network with international buyers and stakeholders also attending or exhibiting the show.

The mission will include occur over five business days and involve stops in four cities; Paris, France, Frankfurt, Germany, and Warsaw and Rzeszow, Poland. Participants will attend site visits at companies active within the AM supply chain, appointments with potential partners, arranged by USFCS, and meetings with national and regional government officials, chambers of commerce, and business groups. In Germany, attendance at FormNext is included in the mission. There will also be networking opportunities with trade associations representing companies interested in expansion into other markets and meetings with government authorities to address questions about policies, tariff rates, incentives, regulations, projects, etc.

Proposed Timetable
Hour | Activity | Address | Description
Monday, November 18, 2019—Official Start of Mission
8:30-10:00 | Breakfast-Seminar | (TBC) | Presentation of the 3D printing Market in France by President of Multistation (https://www.multistation.com/en/demo-center-paris/) and representative of SYMOP (Trade Association of Machines and Technologies for Production) (TBC).
11:30 a.m.-13:00 | Additive Factory Hub in Saclay and/or 4.0 BCG plant in Saclay or Other site (TBD) or B2B meetings if appropriate | Saclay (91) | TBD.
13:00-14:00 | Lunch | TBD
15:00-16:30 | Visit of Dassault Systèmes 3D Experience Lab in Velizy or B2B meetings if appropriate | Velizy (78) | TBD.
Frankfurt, Germany—Tuesday, November 19, 2019
13:00-18:00 | FormNext Show |  | Show visit; one-on-one meetings at the CS booth or at client locations throughout the halls.
19:00 | No host dinner | Wegener Restaurant | Participants and invited guests.
Wednesday, November 20, 2019
9:00-18:00 | Formnext Show
9:30-12:00 | Participation in Standards Events (tentative) |  | Use of Standards and New Developments in AM Standards.
12:00-12:30 | USA Pitch Fest Part I: Quick pitch round for TM members |  | Opportunity for TM members to present their technology.
15:00-15:30 | USA Pitch Fest Part II |  | Opportunity for TM members to present their technology.
16:00-16:45 | Recent Developments in U.S. Additive Manufacturing
17:30-18:30 | International Reception |  | Networking.
Warsaw, Poland—Thursday, November 21, 2019
9:00 | Welcome by Commercial Officer in Warsaw
10:00-12:00 | Visit of the Institute of Aviation TBC | Institute of Aviation Aleja Krakowska 110/114, 02-256 Warszawa, Poland
12:00-13:00 | No host lunch
13:00-14:00 | Association of Automotive Parts Producers and Distributors | USFCS offices | Presentation of Automotive sector in Poland TBC.
Rzeszow, Poland—Thursday November 21, 2019
19:00—21:00 | No host informal dinner | Hotel restaurant in Rzeszow: Mikołaja Kopernika 12, 35-069 Rzeszów, Polska
Friday, November 22, 2019
8:30-9:30 | Meeting with Aviation Valley | Rzeszów, hotel Bristol | Presentation of aerospace sector in Poland + presentation of all the U.S. companies.
9:30-11:00 | Site visit company from automotive sector OR B2B meetings | TBD
11:30-12:30 | Site visit aerospace company OR B2B meetings | TBD
13:00-14:00 | Visit of 3D printing Laboratory | TBD
14:00-15:30 | Lunch in hotel Bristol | Hotel Bristol
15:30-17:00 | B2B meetings | Hotel Bristol
17:00 | Closing remarks and end of mission | Hotel Bristol

Participation Requirements

All parties interested in participating in the trade mission must submit a complete application for consideration by the U.S. Department of Commerce. All applicants will be evaluated on their market potential and objectives as they relate to the mission stops. The mission will be open on a rolling basis to a minimum of eight and a maximum of 15 firms. Companies must meet the 51% US content rule and eligibility guidelines.

Fees and Expenses

Upon review of an application and acceptance to participate, a payment to the U.S. Department of Commerce in the form of a participation fee is required. The participation fee for the Business Development Mission will be $3,995 for small or medium-sized enterprises (SME); and $7,750 for large firms or trade associations. The fee for each additional firm representative (large firm or SME/trade organization) is $700. Expenses for travel, lodging, meals, and incidentals will be the responsibility of each mission participant. Post in Germany has coordinated with the FormNext show organizer to allow participants entry to its show. Interpreter and driver services can be arranged for an additional cost. Delegation members will be able to take advantage of U.S. Embassy rates for hotel rooms. More detailed travel information and recommended providers will be provided once a company has confirmed participation.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than August 30, 2019. The U.S. Department of Commerce will review applications and inform applicants of selection decisions. Applications received after August 30, 2019, will be considered only if space and scheduling constraints permit.

Contacts

Molly Ho, Advanced Manufacturing Deputy Team Leader, U.S. Department of Commerce, Phoenix, Arizona, Tel: +1-480-387-9405, Molly.Ho@trade.gov.

Amy Freedman, Senior International Trade Specialist, U.S. Dept of Commerce, Cleveland, Ohio, Tel: 216.522.4737, Amy.Freedman@trade.gov.

Kirsten Hentschel, Senior Commercial Specialist, U.S. Consulate—Dusseldorf, Germany, U.S. Department of Commerce, Tel: +48-211-737-767-30, Kirsten.Hentschel@trade.gov.

Ken Walsh, Commercial Officer, U.S. Consulate—Dusseldorf, Germany, U.S. Department of Commerce, Tel: +48-211-737-767-30, Ken.Walsh@trade.gov.

Stephanie Pencole, Senior Commercial Specialist, U.S. Embassy—Paris, France, U.S. Department of Commerce, Tel: +33-01-43-12-71-38, Stephanie.Pencole@trade.gov.

Christophe Joly, Senior Commercial Specialist, U.S. Embassy—Paris, France, U.S. Department of Commerce, Tel: +33-01-43-12-70-03, Christophe.Joly@trade.gov.

Joanna Bereza, Commercial Specialist, U.S. Embassy—Warsaw, Poland, U.S. Department of Commerce, Tel: +48-22-625-4374, Joanna.Bereza@trade.gov.

Jaron Bass, International Trade Specialist, Industry & Analysis, U.S. Department of Commerce, Washington, DC, Tel: +1 (202) 482-2625, Jaron.Bass@trade.gov.

Envirotech Executive Service Mission—Water Delegation to India

Dates: February 9-15, 2020

Summary

The United States Department of Commerce, International Trade Administration, U.S. Commercial Service is organizing the “Envirotech Executive Service” (EES) Mission—Water Delegation to India from February 9-15, 2020, with optional spin-off Gold Key Service in Mumbai or Hyderabad on February 17, 2020.

The “Envirotech Executive Service” (EES) Water Delegation to India is intended to include representatives from up to six U.S. water/wastewater industry manufacturers, service providers, associations, or trade organizations. The EES will introduce the participants to government service providers, end-users and prospective partners whose needs and capabilities are best suited to each U.S. participant's strengths. Participating in an official U.S. industry delegation, rather than traveling to India on their own, will enhance the participants' ability to secure business and government meetings in India. The business meetings will be designed to match the delegates with potential business partners, distributors or importers in India. The delegates will meet with government officials to obtain first-hand information about the regulations, policies and procedures for importing into and doing business in India. Participants will also visit facilities to get acquainted with the environmental water/wastewater sector in India. The mission will include appointments and briefings in Delhi, Ahmedabad and Chennai, as well as the opportunity to visit/participate in a local trade show Water Expo 2020 in Chennai. After completion of the EES, delegates can opt for a day of additional Gold Key Service matchmaking meetings in Mumbai or Hyderabad. Each city is one of India's major water industry hubs. Trade mission participants will have the opportunity to interact extensively with Embassy/Consulate Officials and Commercial Service India environmental technology specialists to discuss industry developments, opportunities, and sales strategies.

Proposed Timetable

Mission Schedule—February 9-17, 2020

Mission participants are encouraged to arrive on Sunday, February 9, 2020 before the mission program begins on Monday, February 10, 2020.

Sunday—February 9, 2020

—Arrive in Delhi (evening arrival)

—Check into hotel

New Delhi—February 10-11, 2020

Monday—February 10, 2020

—Breakfast/industry briefing on the India water/wastewater market by industry experts

—Full day one-on-one business matchmaking meetings

Tuesday, February 11, 2020

—Customized site visits

—Late afternoon departure for Ahmedabad

Ahmedabad—February 12, 2020

Wednesday, February 12, 2020

—Customized site visit

—One-on-one matchmaking meetings

Chennai—February 13-15, 2020

Thursday, February 13, 2020

—Morning departure for Chennai

—Participation in the inauguration of the Water Expo 2020 trade show and matchmaking meetings

Friday, February 14, 2020

—Full day one-on-one matchmaking meetings at the Water Expo 2020 (with an option to participate in the concurrent trade show conference program)

—Customized site visit

Saturday—February 15, 2020

—Optional visit to the trade show on your own in the morning

—End of program and delegates depart for U.S. or for the optional spin-off stops in Mumbai or Hyderabad

Optional Spin-off Gold Key Service in Mumbai or Hyderabad—February 17, 2020

Monday—February 17, 2020

—Full day one-on-one matchmaking meetings in Mumbai or Hyderabad

Participation Requirements

All parties interested in participating in the EES to India must complete and submit an application for consideration by the Department of Commerce. All applicants will be evaluated on their ability to meet certain conditions and best satisfy the selection criteria as outlined below. A minimum of 4 and a maximum of 6 companies will be selected to participate in the EES from the applicant pool. U.S. companies already doing business in India as well as U.S. companies seeking to enter the Indian market for the first time may apply.

Fees and Expenses

After a company or organization has been selected to participate on the mission, a payment to the Department of Commerce in the form of a participation fee is required.

The participation fee for the three-city (New Delhi, Ahmedabad and Chennai) Trade Mission will be $3,460.00 for one principal representative from a small or medium-sized enterprise (SME), or trade organization and $5,090.00 for large firms. The fee for each additional representative (large firm or SME/trade organization) is $750.00. The participant fee includes entry to the local trade show Water Expo 2020 in Chennai. Expenses for lodging, some meals, incidentals, and all travel (except for transportation to and from airports in-country, previously noted) will be the responsibility of each mission participant. Additional Gold Key Service matchmaking meetings in Mumbai or Hyderabad will cost $950 for a small company, $2,300 for a medium sized company and $3,400 for a large company.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows.

Recruitment for the mission will begin immediately and conclude no later than December 6, 2019. The U.S. Department of Commerce will review applications and make selection decisions on a rolling basis. We will inform all applicants of selection decisions as soon as possible after the applications are reviewed. Applications received after the December 6, 2019 deadline will be considered only if space and scheduling constraints permit.

Contacts

U.S. Export Assistance Center: Jolanta C. Coffey, Senior International Trade Specialist, U.S. Export Assistance Center, Maryland | U.S. and Foreign Commercial Service, T: 410-962-4578, Jolanta.Coffey@trade.gov.

U.S. Commercial Service in India: Ms. Malarvizhi Parimel, U.S. Commercial Service, American Consulate General, Chennai 600 006, T: (91-44) 2857-4192, 2857-4477, Malarvizhi.Parimel@trade.gov.

Asia EDGE (Enhancing Development and Growth through Energy) Business Development Mission to Indonesia and Vietnam

Date: March 12-20, 2020

Summary

The United States Department of Commerce, International Trade Administration (ITA), is organizing an executive-led Business Development Mission to Southeast Asia, with stops in Indonesia (Jakarta) and Vietnam (Ho Chi Minh City and Hanoi) and an optional program in Thailand (Bangkok).

This trade mission will be the first organized under the Asia Enhancing Development and Economic Growth through Energy (Asia EDGE) initiative. Launched in July 2018 to support the Trump Administration's vision for the Indo-Pacific region, Asia EDGE is a U.S. whole-of-government effort to grow sustainable and secure energy markets throughout Asia by promoting U.S. exports, mobilizing private sector investment, removing trade barriers, and strengthening standards and procurement practices. Drawing on expertise and resources from across the U.S. government, this trade mission will advance the Asia EDGE strategic objective of improving free, fair, and reciprocal energy trading relationships. In addition, the mission will build on several existing energy programs and events, including those organized under the U.S.-Indonesia Power Working Group and the U.S.-Vietnam Energy Working Group.

Mission participants will have the opportunity to meet with key Southeast Asian decision makers to discuss how to foster policies, regulations, and financial investment that support the development of sustainable, secure, and profitable energy markets. Mission participants will network with regional government officials, be introduced to prospective business partners, and facilitate discussions on best practices in their areas of technical expertise. Participants will gain market insights, make industry contacts, solidify business strategies, discuss enabling policies, and advance specific projects, with the primary goal of increasing U.S. exports of products and services to the Indo-Pacific. The mission will include customized one-on-one business appointments, meetings with government officials, and networking events. Participation will be open to all energy sector stakeholders meeting the prerequisites for participation outlined in the Conditions of Participation below.

Schedule

Proposed Timetable*

*Note: The final schedule of meetings, events, and site visits will depend on the availability of host government and business officials, specific goals of mission participants, and flight availability and ground transportation options.

Sunday, March 15, 2020

• Travel to JAKARTA

Monday, March 16, 2020

• JAKARTA (Full Day Sessions)

Tuesday, March 17, 2020

• JAKARTA

(Morning Sessions)

• Travel to HO CHI MINH CITY

• HO CHI MINH CITY (Evening Industry Reception)

Wednesday, March 18, 2020

• HO CHI MINH CITY (Full Day Sessions)

Thursday, March 19, 2020

• Travel to HANOI

• HANOI (Afternoon and Evening Sessions)

Friday, March 20, 2020

• HANOI (Full Day Sessions)

• Official Trade Mission Program Concludes

Saturday/Sunday, March 21-22, 2020

• Optional Spin Off—Travel to BANGKOK

Monday, March 23, 2020

• BANGKOK (Full Day Sessions)

Tuesday, March 24, 2020

• BANGKOK (Morning Sessions)

• Optional Spin Off Program Concludes

Participation Requirements

Applicants must sign and submit a completed trade mission application form and satisfy all the conditions of participation to be eligible for consideration. ITA plans to select a minimum of 10 and a maximum of 15 firms and/or trade associations to participate in the mission.

Fees and Expenses

After a firm or trade association has been selected to participate on the mission, a payment to the U.S. Department of Commerce in the form of a participation fee is required. The participation fee for this Business Development Mission will be $4,000 for small or medium-sized enterprises (SME); and $6,200 for large firms or trade associations. The fee for each additional firm representative (large firm, SME or trade association) is $1,000. The fee for the spin-off to Bangkok will be $1,500 for SME; and $2,400 for large firms or trade associations.

Timeline for Recruitment

Mission recruitment will be conducted in an open and public manner, including publication in the Federal Register, posting on the U.S. Department of Commerce trade mission calendar (http://export.gov/trademissions) and other internet websites, press releases to general and trade media, direct mail, notices by industry trade associations and other multiplier groups, and publicity at industry meetings, symposia, conferences, and trade shows. Recruitment for the mission will begin immediately.

The Department of Commerce will evaluate applications and inform applicants of selection decisions twice during the recruitment period. All applications received after the first evaluation deadline will be considered during the second evaluation. Deadlines for each round of evaluation are as follows:

• First Round: October 31, 2019

• Final Round: December 2, 2019

Applications received after December 2, 2019, will be considered only if space and scheduling constraints permit.

Contacts

Stephen Anderson, Commercial Officer, U.S. Embassy Bangkok, U.S. Department of Commerce, Phone: 66-2-205-5263, Email: stephen.anderson@trade.gov

Cathy Gibbons, Global Energy Team Lead, U.S. Commercial Service, Westchester (New York), U.S. Department of Commerce, Phone: 1-914-682-6712, Email: cathy.gibbons@trade.gov

Victoria Gunderson, International Trade Specialist, Office of Energy and Environmental Industries, U.S. Department of Commerce, Phone: 1-202-482-7890, Email: victoria.gunderson@trade.gov

Eric Hsu, Senior Commercial Officer, U.S. Embassy Hanoi (Vietnam), U.S. Department of Commerce, Phone: 84-24-3850-5070, Email: eric.hsu@trade.gov

David Nufrio, International Trade Specialist, Global Markets Asia, U.S. Department of Commerce, Phone: 1-202-482-5175, Email: david.nufrio@trade.gov

Paul Taylor, Commercial Officer, U.S. Embassy Jakarta (Indonesia), U.S. Department of Commerce, Phone: 62-815-1080-0475, Email: paul.taylor@trade.gov

Trade Mission to Hong Kong and Indo-Pacific in Conjunction With Trade Winds Indo-Pacific

Date: April 20-28, 2020

Summary

The United States Department of Commerce, International Trade Administration, U.S. and Foreign Commercial Service (USFCS) is organizing a trade mission to Hong Kong and the Indo Pacific region, that will include the Trade Winds Indo Pacific business forum in Hong Kong, April 20-28, 2020. U.S. trade mission members will participate in the Trade Winds—Indo Pacific business forum in Hong Kong (which is also open to U.S. companies not participating in the trade mission). Trade mission participants may participate in their choice of mission stops based on recommendations from the USFCS. Each trade mission stop will include one-on-one business appointments with pre-screened potential buyers, agents, distributors and joint-venture partners, and networking events. Trade mission participants electing to participate in the Trade Winds Indo Pacific business forum may attend regional consultations with USFCS Senior Commercial Officers and Officers from participating State Department Partner Posts.

This mission is open to U.S. companies from a cross section of industries with growth potential in Hong Kong and the Indo Pacific region, including but not limited to: Aerospace and defense, consumer goods, energy, franchising, healthcare, environmental technologies, information & communication technologies, design & construction, and environmental technologies.

Proposed Timetable

This timetable allows for clients to take part in business matchmaking across the diverse Indo Pacific marketplace by offering scheduled business-to-business meetings in Hong Kong, South Korea, Japan, Thailand, and Vietnam. This structure ensures that each post has set days for meetings that allow the clients to explore up to three of their best prospects for business.

Sunday April 19, 2020

Trade Mission Participants Arrive in Japan or Vietnam (if electing to participate in one of these mission stops)

Monday April 20, 2020

Japan or Vietnam (choice of one mission stop) Business to Business meetings and networking with government and business officials

Tuesday April 21, 2020

Arrive in Hong Kong

Wednesday-Friday, April 22-24, 2020

Hong Kong: Trade Winds Business Forum and SCO Consultations Market Briefings, Business to Business meetings, Consultations with U.S. government trade representatives and networking with U.S. and foreign government and business officials

Saturday-Sunday, April 25-26, 2020

Travel to South Korea or Thailand (if electing to participate in one of these mission stops)

Monday April 27, 2020

South Korea or Thailand (choice of one mission stop) Business to Business meetings and networking with government and business officials

Tuesday April 28, 2020

Trade Mission Participants Depart

Participation Requirements

All parties interested in participating in the trade mission to Hong Kong (including mission stops with business matchmaking in Hong Kong and/or additional countries) must complete and submit an application package for consideration by the Department of Commerce. All applicants will be evaluated on their ability to meet certain conditions and best satisfy the selection criteria as outlined below.

A minimum of 40 companies and/or trade associations will be selected to participate in the mission from the applicant pool on a rolling basis. Mission stop participation will be limited as follows:

Business matchmaking capacity:

Hong Kong—32

South Korea—20

Japan—20

Thailand—20

Vietnam—20

Additional companies may be accepted based on available space. U.S. companies and/or trade associations already doing business in or seeking business in Hong Kong, South Korea, Japan, Thailand, or Vietnam for the first time may apply.

Fees and Expenses

If and when an applicant is selected to participate on a particular mission, a payment to the Department of Commerce in the amount of the designated participation fee below is required. Upon notification of acceptance to participate, those selected have 5 business days to submit payment or the acceptance may be revoked.

The below trade mission fees include the $750 participation fee for the Trade Winds business forum to be held in Hong Kong on April 20-28, 2020.

1. For one mission stop, the participation fee will be $2,200 for a small or medium-sized enterprise (SME) and $4,200 for large firms.

2. For two mission stops, the participation fee will be $3,400 for a small or medium-sized enterprise (SME) and $5,400 for large firms.

3. For three mission stops, the participation fee will be $4,600 for a small or medium-sized enterprise (SME) and $6,600 for large firms.

4. For four mission stops, the participation fee will be $5,800 for a small or medium-sized enterprise (SME) and $7,800 for large firms.

An additional representative for both SMEs and large firms at the Forum will require an additional fee of $500.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows.

Recruitment for the mission will begin immediately and conclude no later than March 6, 2020. The U.S. Department of Commerce will review applications and make selection decisions on a rolling basis beginning 14 DAYS AFTER PUBLICATION OF THE FEDERAL REGISTER NOTICE, until the maximum number of participants is selected. After March 6, 2020, applications will be considered only if space and scheduling constraints permit.

Contacts

Colleen Fisher, Director, U.S. Export Assistance Center—Baltimore, MD, Colleen.Fisher@trade.gov, Tel: 410-962-3097

Leandro Solorzano, Trade Specialist, U.S. Export Assistance Center—Fort Lauderdale, FL, Leandro.Solorzano@trade.gov, Tel: 954-356-6647

International Contact Information, Geoffrey Parish, Deputy Senior Commercial Officer, U.S. Commercial Service Hong Kong, Email: Geoffrey.Parish@trade.gov

Tiara Hampton-Diggs,
Program Specialist, Trade Promotion Programs.

[FR Doc. 2019-19966 Filed 9-13-19; 8:45 am]

BILLING CODE 3510-DR-P